DEPARTMENT OF COMMERCE

Economic Development Administration

Notice of Petitions by Firms for Determination of Eligibility To Apply for Trade Adjustment Assistance

AGENCY: Economic Development Administration, Department of Commerce

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[October 25, 2007 through November 30, 2007]
Firm | Address | Date accepted for filing | Products
Steel Ventures, LLC dba Ex-L-Tube | 811 Atlantic Street, N., Kansas City, MO 64116-4259 | 10/25/2007 | Steel tubing and standard pipe.
Cramer Wood Products, Inc | 600 North Scientific Street, High Point, NC 27260 | 10/29/2007 | Manufactures and markets high qualify wood veneer products. The firm processes veneers from exotic and domestic woods, providing architectural panels and cut-to-size splicing as well as more traditional veneer sheets.
Advent Tool & Mold, Inc. | 999 Ridgeway Avenue, Rochester, NY 14615 | 10/29/2007 | Design and build custom injection molds and manufacture precision injection molded plastic parts and assemblies.
Martin's Chair, Inc. | 124 King Court, New Holland, PA 17557 | 11/1/2007 | Furniture manufacturer, primarily chairs. Designs: 18th & 19th century: Pennsylvania, German, and Craftman.
Long Haul Products, Inc. | 16869 Ward Creek Road, Cedaredge, Co 81413 | 11/2/2007 | Folding kayaks.
The Servicenter | 7301 N.W. 50th St., Oklahoma City, OK 73132 | 11/5/2007 | Manufacturer of consumable and custom aircraft parts (specific to plane type & model). Includes detailed drawing illustration part dimensions and exact area for drilling rivet holes.
Cable Manufacturing & Assembly | 10896 Industrial Parkway, NW., Bolivar, OH 44612 | 11/5/2007 | Stranded cables, less than ⅜″ in diameter, of steel and stainless steel.
Duraspec Electroplating, Inc | 87-83 139th Street, Jamaica, NY 11435 | 11/5/2007 | Metal aircraft, dental, and X-Ray parts including screws, bolts, tubes, fittings, & mountings that are plated and polished with a variety of finishes.
Spring Team, Inc. | 2851 Industrial Park Drive, Austinburg, OH 44010 | 11/7/2007 | Springs and wire forms.
W.J. Die Mold, Inc. | 915 Estes Court, Schaumburg, IL 60193-4427 | 11/13/2007 | Plastic injection, compression, insert and die cast molds.
Lehighton Electronics, Inc | Frist and South Streets, Lehighton, PA 18235 | 11/13/2007 | Instruments for measuring and control.
Fame Industries, Inc. | 51100 Grand River Ave., Wixom, MI 48393 | 11/14/2007 | Conveyors and conveying equipment.
Machine Tool Automation Corp. dba Bayer | 5150 N. 24th Street, Phoenix, AZ 95016 | 11/15/2007 | Designs and manufactures machine tool accessories and workholding components. Products include automated and manual pallet switching systems, custom pallets and tooling designed to shorten setup time for vertical machining centers.
Wadsworth Control Systems, Inc | 5541 Marshall Street, Arvada, CO 80002 | 11/15/2007 | Process control systems and apparatus for temperature control in greenhouses.
Action Graphix, LLC | 2623 Commerce Drive, Jonesboro, AR 72401 | 11/19/2007 | Dynamic motion signs.
S & K Electronics, Inc | 56301 US Highway 93, Roman, MT 59864 | 11/20/2007 | Electronic components and parts, specializing in electronic circuits and assemblies for firms in areas such as telecommunications, aerospace, marine and government.
London Grove Industries, Inc | 431 W. Baltimore Pike, West Grove, PA 19390 | 11/20/2007 | Household furniture and custom kitchen cabinets.
Tres Bonne, Inc | 3841 First Avenue South, Seattle, WA 98134 | 11/20/2007 | Apparel including work wear, sports and outdoor wear, as well as children's wear. For example, women's and men's gloves, pants, and jackets. There is no resale.
Sound to Earth, LTD | 5400 Frontage Road, Manhattan, MT 59741 | 11/27/2007 | Manufactures string instruments such as mandolins and guitars. It also manufactures accessories for these instruments.
Standley Brothers Machine | 96 Park Street, P.O. Box 85, Beverly, MA 01915 | 11/27/2007 | Custom precision machining products are best suited for aluminum and stainless steel families of material. Additionally, they work with steel, different types of plastic, copper, lead, and titanium.
Wadsworth Control Systems, Inc | 5541 Marshall Street, Arvado, CO 80002 | 11/28/2007 | Process control systems and apparatus for temperature control in greenhouses.
Universal Forest Products (235) | 26200 Nowell Road, Thornton, CA 95686 | 11/29/2007 | Lumber remanufacturer and distributor. Value added lumber products.
The Nugget Company, Inc | 139 Kemper Street, San Antonio, TX 78207 | 11/29/2007 | Tanned and processed lambskin hides.
Davis Tool & Die Co., Inc | 888 Bolger Court, Fenton, MO 63026 | 11/30/2007 | Moulds for metal parts.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in section 315.9 of EDA's final rule (71 FR 56704) for procedures for requesting a public hearing. The Catalog of Federal Domestic Assistance official program number and title of the program under which these petitions are submitted is 11.313, Trade Adjustment Assistance.

Dated: December 14, 2007.
William P. Kittredge,
Program Officer for TAA.

[FR Doc. 07-6119 Filed 12-19-07; 8:45 am]

BILLING CODE 3510-24-M